DEPARTMENT OF STATE

[Public Notice 6017]

Announcement of Meetings of the International Telecommunication Advisory Committee

Summary: This notice announces a meeting of the International Telecommunication Advisory Committee (ITAC) to prepare advice on U.S. positions for the February 2008 meeting of the working groups of the International Telecommunication Union Council.

The ITAC will meet to prepare advice for the U.S. on positions for the February 2008 meeting of the working groups of the International Telecommunication Union Council on Wednesday January 16, 2:30-4:30 p.m. EST at a location in the Washington, DC, metro area. Meeting details and detailed agendas will be posted on the mailing list itac@eblist.state.gov. People desiring to participate on this list may apply to the secretariat at minardje@state.gov.

The meeting is open to the public.

Dated: December 21, 2007.
Doreen F. McGirr,
International Communications & Information Policy, Department of State.

[FR Doc. E7-25418 Filed 12-28-07; 8:45 am]

BILLING CODE 4710-45-P